DEPARTMENT OF AGRICULTURE

Farm Service Agency

Request for Extension of a Currently Approved Information Collection: Management Advice to Individual Borrowers and Applicants

AGENCY: Farm Service Agency, USDA.

ACTION: Notice and request for comments.

SUMMARY: In accordance with the Paperwork Reduction Act of 1995, this notice announces the intent of the Farm Service Agency (FSA) to request an extension of the Office of Management and Budget's (OMB) approval of previously approved information collection which supports FSA, Farm Loan Programs (FLP) loan making and servicing applications. This renewal does not involve any revisions to the program regulations.

DATES: Comments on this notice must be received on or before July 2, 2007 to be assured of consideration.

FOR FURTHER INFORMATION CONTACT: Chuck Ropp, Senior Loan Officer, USDA, FSA, Farm Loan Programs, Program Development and Economic Enhancement Division, 1400 Independence Avenue, SW., STOP 0521, Washington, DC 20250-0521; telephone (202) 680-4008; electronic mail: Clarence.ropp@wdc.usda.gov.

SUPPLEMENTARY INFORMATION: Title: Management Advice to Individual Borrowers and Applicants.

OMB Control Number: 0560-0154.

Expiration Date of Approval: December 31, 2007.

Type of Request: Extension of a Currently Approved Information Collection.

Abstract: The information collected under the OMB Control Number 0560-0154 is necessary to provide proper farm assessments, credit counseling and supervision to direct loan borrowers in accordance with the requirements of 7 CFR part 1924 subpart B as authorized by the Consolidated Farm and Rural Development Act. Specifically, FSA uses the information to protect the Government's financial interests by ensuring that the farming operations of direct loan applicants and borrowers are properly assessed for short and long-term financial feasibility. The information is needed to assure that the recipients of direct loans receive appropriate credit counseling and supervision to ensure the greatest chance for financial success.

Estimate of Burden: Public reporting burden for this collection of information is estimated to average 1.15 hours per response.

Respondents: Individuals or households, businesses or other for profit and farms.

Estimated Number of Respondents: 54,081.

Estimated Number of Responses per Respondent: 2.3.

Estimated Total Annual Burden on Respondents: 125,824.

Comments are sought on these requirements including: (a) Whether the collection of information is necessary for the proper performance of the functions of the agency, including whether the information will have practical utility; (b) the accuracy of the agency's estimate of burden including the validity of the methodology and assumptions used; (c) ways to enhance the quality, utility, and clarity of the information to be collected; or (d) ways to minimize the burden of the collection of information on those who are to respond, including the use of appropriate automated, electronic, mechanical or other technological collections techniques or other form of information technology.

These comments should be sent to the Desk Officer for Agriculture, Office of Information and Regulatory Affairs, Office of Management and Budget, Washington, DC 20503 and to Chuck Ropp, USDA, FSA, Farm Loan Programs, Program Development and Economic Enhancement Division, 1400 Independence Avenue, SW., STOP 0521, Washington, DC 20250-0521. Copies of the information collection may be obtained from Chuck Ropp at the above address.

Comments will be summarized and included in the request for OMB approval of the information collection. All comments will also become a matter of public record.

Signed at Washington, DC, on April 23, 2007.
Teresa C. Lasseter,
Administrator, Farm Service Agency.

[FR Doc. E7-8243 Filed 4-30-07; 8:45 am]

BILLING CODE 3410-05-P